DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

AGENCY: United States Patent and Trademark Office (USPTO).

Title: Applications for Trademark Registration.

Form Number(s): PTO Forms 4.8, 4.9, 1478, and 1478(a).

Agency Approval Number: 0651-0009.

Type of Request: Extension of a currently approved collection.

Burden: 84,821 hours annually.

Number of Respondents: 291,859 responses per year with an estimated 279,692 responses filed electronically.

Avg. Hours Per Response: The USPTO estimates that it will take the public between 15 to 23 minutes (0.25 to 0.38 hours) to complete the applications in this collection, depending on the form and the nature of the information. This includes the time to gather the necessary information, create the documents, and submit the completed application. The USPTO estimates that it takes slightly less time to complete the electronic counterparts of these forms. The time estimates for the electronic forms in this collection are based on the average amount of time needed to complete and electronically file the associated form.

Needs and Uses: This collection of information is required by the Trademark Act, 15 U.S.C. 1051 et seq. and is implemented through the Trademark rules set forth in 37 CFR Part 2. It provides for the registration of trademarks, service marks, collective trademarks and service marks, collective membership marks, and certification marks. Individuals and businesses who use their marks or intend to use their marks in commerce may file an application with the USPTO to register their marks. The USPTO uses the information in this collection to determine whether the marks may be registered. This collection contains three paper forms and six electronic forms that are available through the Trademark Electronic Application System (TEAS). The information in this collection is available to the public.

Affected Public: Primarily businesses or other for-profit organizations.

Frequency: On occasion.

Respondent's Obligation: Required to obtain or retain benefits.

OMB Desk Officer: David Rostker, (202) 395-3897.

Copies of the above information collection proposal can be obtained by any of the following:

• E-mail: Susan.Fawcett@uspto.gov. Include “0651-0009 copy request” in the subject line of the message.

• Fax: 571-273-0112, marked to the attention of Susan K. Fawcett.

• Mail: Susan K. Fawcett, Records Officer, Office of the Chief Information Officer, Customer Information Services Group, Public Information Services Division, U.S. Patent and Trademark Office, P.O. Box 1450, Alexandria, VA 22313-1450.

Written comments and recommendations for the proposed information collection should be sent on or before July 11, 2008 to David Rostker, OMB Desk Officer, Room 10202, New Executive Office Building, 725 17th Street, NW., Washington, DC 20503.

Dated: June 4, 2008.
Susan K. Fawcett,
Records Officer, USPTO, Office of the Chief Information Officer, Customer Information Services Group, Public Information Services Division.

[FR Doc. E8-13048 Filed 6-10-08; 8:45 am]

BILLING CODE 3510-16-P